DEPARTMENT OF HEALTH AND HUMAN SERVICES

Centers for Medicare & Medicaid Services

42 CFR Parts 410, 411, 412, 414, 416, 419, 482, 485, 512

[CMS-1736-FC, 1736-IFC]

RIN 0938-AU12

Medicare Program: Hospital Outpatient Prospective Payment and Ambulatory Surgical Center Payment Systems and Quality Reporting Programs; New Categories for Hospital Outpatient Department Prior Authorization Process; Clinical Laboratory Fee Schedule: Laboratory Date of Service Policy; Overall Hospital Quality Star Rating Methodology; Physician-Owned Hospitals; Notice of Closure of Two Teaching Hospitals and Opportunity To Apply for Available Slots, Radiation Oncology Model; and Reporting Requirements for Hospitals and Critical Access Hospitals (CAHs) To Report COVID-19 Therapeutic Inventory and Usage and To Report Acute Respiratory Illness During the Public Health Emergency (PHE) for Coronavirus Disease 2019 (COVID-19)

Correction

In rule document 2020-26819, beginning on page 85866, in the issue of Tuesday, December 29, 2020, make the following corrections:

1. On page 85866, in the 2nd column, in the DATES section, on the 8th line, “December 4, 2021” should read “December 4, 2020”.

2. On page 86261, in the 2nd column, in the 14th and 15th lines, “December 4, 2021” should read “December 4, 2020”.

PART 42 [Corrected]

§ 482.42 [Corrected]

3. On page 86303, in the 3rd column, in instruction 21, in the 2nd line, “December 4, 2021” should read “December 4, 2020”.

§ 485.640 [Corrected]

4. On page 86304, in the 1st column, in instruction 23, in the 2nd line, “December 4, 2021” should read “December 4, 2020”.

§ 512.205 [Corrected]

5. On the same page, in the 2nd column, in instruction 25, in the 2nd line, “December 4, 2021” should read “December 4, 2020”.

§ 512.210 [Corrected]

6. On the same page, in the same column, in instruction 26, in the 2nd line, “December 4, 2021” should read “December 4, 2020”.

§ 512.217 [Corrected]

7. On the same page, in the 3rd column, in instruction 27, in the 2nd line, “December 4, 2021” should read “December 4, 2020”.

§ 512.220 [Corrected]

8. On the same page, in the same column, in instruction 28, in the 2nd line, “December 4, 2021” should read “December 4, 2020”.

§ 512.245 [Corrected]

9. On page 86305, in the 1st column, in instruction 29, in the 2nd line, “December 4, 2021” should read “December 4, 2020”.

§ 512.255 [Corrected]

10. On the same page, in the same column, in instruction 30, in the 2nd line, “December 4, 2021” should read “December 4, 2020”.

§ 512.285 [Corrected]

11. On the same page, in the 2nd column, in instruction 31, in the 2nd line, “December 4, 2021” should read “December 4, 2020”.

[FR Doc. C1-2020-26819 Filed 6-24-21; 4:15 pm]

BILLING CODE 0099-10-P